DEPARTMENT OF VETERANS AFFAIRS

38 CFR Part 17

RIN 2900-AQ01

Technical Correction to Reimbursement of Qualifying Adoption Expenses for Certain Veterans

AGENCY: Department of Veterans Affairs.

ACTION: Correcting Amendment.

SUMMARY: This final rule will add the Office of Management and Budget approval number for the new collection of information in the Department of Veterans Affairs (VA) regulation that governs the reimbursement of qualifying adoption expenses incurred by a veteran with a service-connected disability that results in the inability of the veteran to procreate without the use of fertility treatment.

DATES: This final rule is effective May 28, 2020.

FOR FURTHER INFORMATION CONTACT: Patricia M. Hayes, Ph.D. Chief Consultant, Women's Health Services, Patient Care Services, Veterans Health Administration, Department of Veterans Affairs, 810 Vermont Ave. NW, Washington, DC 20420. (202) 461-0373. (This is not a toll-free number.)

SUPPLEMENTARY INFORMATION: In a document published in the Federal Register on December 13, 2019, VA adopted as final, with changes, an interim final rule providing for reimbursement of qualifying adoption expenses incurred by certain veterans (84 FR 68046). The Paperwork Reduction Act of 1995 (44 U.S.C. 3507) requires that VA consider the impact of paperwork and other information collection burdens imposed on the public. Under 44 U.S.C. 3507(a), an agency may not collect or sponsor the collection of information, nor may it impose an information collection requirement unless it displays a currently valid Office of Management and Budget (OMB) control number. See also 5 CFR 1320.8(b)(3)(vi). As required by 44 U.S.C. 3507(d), VA submitted the information collection associated with § 17.390 to OMB for its review. OMB approved the new information collection requirements associated with the interim final rule under a 6-month emergency clearance and assigned OMB control number 2900-0860, although the control number did not appear in § 17.390 as revised by the final rule because the OMB control number 2900-0860 expired on March 31, 2019. VA applied to OMB for a renewal of this information collection under a separate document and OMB approved the renewal of this information collection requirement associated with the final rule on March 10, 2020. This document revises § 17.390 by adding the approved OMB control number.

List of Subjects in 38 CFR Part 17

Administrative practice and procedure, Alcohol abuse, Alcoholism, Claims, Day care, Dental health, Drug abuse, Government contracts, Grant programs—health, Grant programs—veterans, Health care, Health facilities, Health professions, Health records, Homeless, Medical and Dental schools, Medical devices, Medical research, Mental health programs, Nursing homes, Reporting and recordkeeping requirements, Travel and transportation expenses, Veterans.

Jeffrey M. Martin,
Assistant Director, Office of Regulation Policy & Management, Office of the Secretary, Department of Veterans Affairs.

For the reasons set forth in the preamble, VA amends 38 CFR part 17 as follows:

PART 17—MEDICAL

1. The authority citation for part 17 continues to read in part as follows:

Authority: 38 U.S.C. 501, and as noted in specific sections.

* * * * *

2. Amend § 17.390 by revising the parenthetical sentence at the end of the section to read as follows:

§ 17.390 Reimbursement for qualifying adoption expenses incurred by certain veterans.

* * * * *

(The Office of Management and Budget has approved the information collection requirement in this section under control number 2900-0860)

[FR Doc. 2020-10012 Filed 5-27-20; 8:45 am]

BILLING CODE 8320-01-P